ENVIRONMENTAL PROTECTION AGENCY

[EPA-HQ-OAR-2015-0771; FRL-9939-41-OAR]

Protection of Stratospheric Ozone: Notice of Revocation of Certification for Refrigerant Reclaimers

AGENCY: Environmental Protection Agency (EPA).

ACTION: Notice of revocation.

SUMMARY: In accordance with 40 CFR 82.164, no person may sell or offer for sale or use as a refrigerant, any class I or class II ozone-depleting substance consisting wholly or in part of used refrigerant unless the substance has been reclaimed by an Environmental Protection Agency (EPA)-certified refrigerant reclaimer. All persons reclaiming used refrigerant for sale to a new owner are required to certify to the EPA Administrator in accordance with 40 CFR 82.164 and to maintain records and submit reports in accordance with 40 CFR 82.166.

Through this action, the EPA is giving notice of the impending revocation of one refrigerant reclaimer, Refrigerants Exchange, Inc. (RefEx) of Irwindale, CA, in accordance with 40 CFR part 82, subpart F. In addition, the EPA is announcing the previous revocation of certification of eight refrigerant reclaimers. An up-to-date list of EPA-certified refrigerant reclaimers is available online at www.epa.gov/ozone/title6/608/reclamation/reclist.html.

DATES: If RefEx wishes to request a hearing for the impending revocation of its reclaimer certification, it must request a hearing in writing on or before January 4, 2016. If a written request and supporting data are not received by that date, RefEx's certification to reclaim refrigerants is revoked effective February 1, 2016.

The following entities had their certification as refrigerant reclaimers revoked previously, effective as of the dates listed below and on EPA's Web site:

November 2009: Polar Refrigerant in South Hampton, NH

March 19, 2009: Refrigerant Services, Inc in Imperial Beach, CA

January 10, 2008: Rocky Mountain Reclamation, Inc in Denver, CO; Star Refrigerants in Fort Worth, TX

March 9, 2007: Teris, LLC in El Dorado, AR

March 13, 2006: Cryo-Line Supplies USA, Inc. in Henderson, NV; Refrigerant Recovery, Inc. in Milwaukee, WI; South Florida Trane Service in Miami, FL

FOR FURTHER INFORMATION CONTACT: Luke Hall-Jordan, Stratospheric Protection Division, Office of Atmospheric Programs, (6205T), 1200 Pennsylvania Avenue NW., Washington, DC 20460; telephone number (202) 343-9591; email address hall-jordan.luke@epa.gov.

SUPPLEMENTARY INFORMATION:

Impending Revocation

On June 10, 2011, the EPA issued a request for information (June 10, 2011 Request or Request, available in the docket for this notice) to RefEx pursuant to Section 114 of the Clean Air Act (CAA). Section 114 of the CAA authorizes the EPA to request such information from anyone who is subject to any requirement of the CAA in order to determine the compliance status of that person or entity. RefEx is subject to regulations at 40 CFR 82.164 and 82.166 implementing section 608 of the Clean Air Act.

The June 10, 2011 Request asked, in part, for records documenting that reclaimed refrigerant sold by RefEx met the ARI 700 standard (upon which the Specifications for Fluorocarbon and Other Refrigerants in appendix A to 40 CFR part 82, subpart F are based), for the two-year period prior to RefEx's receipt of the request. RefEx responded to the Request in part on July 7, 2011. Records provided by RefEx in its response did not demonstrate that all refrigerant sold by RefEx in the relevant time frame was reprocessed to meet all of the applicable specifications in appendix A to 40 CFR part 82, subpart F. As part of its reclaimer certification, RefEx is required to verify that the reprocessed refrigerant meets all of the specifications in appendix A. See 40 CFR 82.164(b), (e)(3), and (g). In addition, among other things, the June 10, 2011 Request asked for the names and addresses of persons that sent RefEx material for reclamation in the 12 months prior to the Request. RefEx's July 7, 2011 response also did not provide that information. RefEx is required to keep this information under 40 CFR 82.164(e)(3) and 82.166(g).

EPA sent two follow-up letters (also available in the docket for this notice), dated August 19, 2011 and October 25, 2011, noting deficiencies in RefEx's July 7, 2011 response and requesting a full and complete response to the June 10, 2011 Request. Further, EPA offered RefEx the opportunity to provide any additional documentation in response to the June 10, 2011 Request that EPA may use to determine RefEx's compliance with 40 CFR 82.164 and 82.166 in a letter dated March 16, 2015 (also available in the docket for this notice). To date, EPA has not received the requested information.

In the March 16, 2015 letter, the EPA warned that if RefEx did not provide additional information to demonstrate compliance with 40 CFR 82.164, EPA would consider initiating procedures to revoke RefEx's status as a certified reclaimer pursuant to 40 CFR 82.164(g) and 82.169. Since many of the letters sent to RefEx have been returned as undeliverable, in addition to the copy of the letter sent by certified mail, the EPA emailed the March 16, 2015 letter to the email address that RefEx uses to provide its annual report of the amount of refrigerant reclaimed on May 7, 2015. The last report was received by the EPA from this email address on March 24, 2015.

Since RefEx failed to fully respond to the information requests and has not shown that it is complying with 40 CFR 82.164 and 82.166, including particularly 40 CFR 82.164(b) and 82.166(g), the EPA is revoking RefEx's certification to reclaim refrigerants. Under 40 CFR 82.169, the EPA has the ability to revoke a reclaimer's certification for failing “to abide by any of the provisions of this subpart . . . . In such cases, the Administrator or her or his designated representative shall give notice of an impending suspension [or revocation] to the person or organization setting forth the facts or conduct that provide the basis for the revocation or suspension.” See also 40 CFR 82.164(g) (providing that “[f]ailure to abide by any of the provisions of this subpart may result in revocation . . . of the certification of the reclaimer in accordance with 40 CFR 82.169” and including an analogous notice requirement).

If RefEx believes that its certification to reclaim refrigerants should not be revoked, it may request a hearing under 40 CFR 82.169 by filing a written request within 30 days of this notice to the individual identified in FOR FURTHER INFORMATION CONTACT. The request must include RefEx's objections to the revocation and data to support the objections. If the Agency does not receive a written request for a hearing within 30 days of the date of this notice, the revocation will become effective 60 days after the publication of this notice.

Notice of Previous Revocations

To ensure that all stakeholders are aware of past revocations, EPA is also providing notice in this action of eight former refrigerant reclaimers that no longer are certified to reclaim refrigerants. All of these revocations have previously been noted on EPA's Web site at www.epa.gov/ozone/title6/608/reclamation/recrevoke.html. Six of these reclaimers have requested to be removed from the list of certified reclaimers. They are: Rocky Mountain Reclamation, Inc. in Denver, CO; Star Refrigerants in Fort Worth, TX; Teris, LLC in El Dorado, AR; Cryo-Line Supplies USA, Inc. in Henderson, NV; Refrigerant Recovery, Inc. in Milwaukee, WI; and South Florida Trane Service in Miami, FL.

Two other reclaimers, Polar Refrigerant in South Hampton, NH, and Refrigerant Services, Inc. in Imperial Beach, CA, had their certification revoked for failing to comply with the recordkeeping and reporting requirements in 40 CFR 82.166. The dates of revocation are noted on EPA's Web site and in the DATES section of this notice. EPA sent letters to these two companies in November 2009, and February 12, 2009, respectively, that included an explanation of the basis for EPA's decision.

Dated: November 16, 2015.
Drusilla Hufford,
Director, Stratospheric Protection Division.

[FR Doc. 2015-30363 Filed 12-1-15; 8:45 am]

BILLING CODE 6560-50-P